DEPARTMENT OF ENERGY

Federal Energy Regulatory Commission

Combined Notice of Filings #1

Take notice that the Commission received the following exempt wholesale generator filings:

Docket Numbers: EG19-186-000.

Applicants: 224WB 8me LLC.

Description: Notice of Self-Certification of Exempt Wholesale Generator Status of 224WB 8me LLC.

Filed Date: 9/19/19.

Accession Number: 20190919-5053.

Comments Due: 5 p.m. ET 10/10/19.

Take notice that the Commission received the following electric rate filings:

Docket Numbers: ER12-2310-008.

Applicants: Zephyr Wind, LLC.

Description: Notice of Non Material Change in Status of Zephyr Wind, LLC.

Filed Date: 9/19/19.

Accession Number: 20190919-5098.

Comments Due: 5 p.m. ET 10/10/19.

Docket Numbers: ER18-1266-003.

Applicants: Moxie Freedom LLC.

Description: Compliance filing: Settlement Compliance Filing to be effective 5/1/2018.

Filed Date: 9/18/19.

Accession Number: 20190918-5115.

Comments Due: 5 p.m. ET 10/9/19.

Docket Numbers: ER19-592-001.

Applicants: Valentine Solar, LLC.

Description: Notice of Change in Status of Valentine Solar, LLC.

Filed Date: 9/18/19.

Accession Number: 20190918-5156.

Comments Due: 5 p.m. ET 10/9/19.

Docket Numbers: ER19-2830-000.

Applicants: Midcontinent Independent System Operator, Inc., ALLETE, Inc.

Description: § 205(d) Rate Filing: 2019-09-18 SA 2700 Minnesota Power-Manitoba-Minnesota Power 1st Rev MPFCA (GNTL) to be effective 9/19/2019.

Filed Date: 9/18/19.

Accession Number: 20190918-5153.

Comments Due: 5 p.m. ET 10/9/19.

Docket Numbers: ER19-2831-000.

Applicants: Southwest Power Pool, Inc.

Description: Notice of cancellation of Point-To-Point Transmission Service Agreement of Southwest Power Pool, Inc.

Filed Date: 9/18/19.

Accession Number: 20190918-5163.

Comments Due: 5 p.m. ET 10/9/19.

Docket Numbers: ER19-2832-000.

Applicants: PJM Interconnection, L.L.C.

Description: § 205(d) Rate Filing: Orginal WMPA SA No. 5488; Queue No. AE2-006 to be effective 9/12/2019.

Filed Date: 9/19/19.

Accession Number: 20190919-5069.

Comments Due: 5 p.m. ET 10/10/19.

Take notice that the Commission received the following electric securities filings:

Docket Numbers: ES19-58-000.

Applicants: Michigan Electric Transmission Company, LLC.

Description: Application under Section 204 of the Federal Power Act for Authorization to Extend Maturity of Revolving Credit Facility of Michigan Electric Transmission Company, LLC.

Filed Date: 9/18/19.

Accession Number: 20190918-5127.

Comments Due: 5 p.m. ET 10/9/19.

Take notice that the Commission received the following qualifying facility filings:

Docket Numbers: QF18-452-000.

Applicants: North American Natural Resources, Inc.

Description: Refund Report of North American Natural Resources, Inc.

Filed Date: 9/19/19.

Accession Number: 20190919-5091.

Comments Due: 5 p.m. ET 10/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2019.
Nathaniel J. Davis, Sr.,
Deputy Secretary.

[FR Doc. 2019-20791 Filed 9-24-19; 8:45 am]

BILLING CODE 6717-01-P